DEPARTMENT OF HEALTH AND HUMAN SERVICES

Food and Drug Administration

Workshop on Sex Differences and the Food and Drug Administration Critical Path Initiative

AGENCY: Food and Drug Administration, HHS.

ACTION: Notice of meeting.

The Food and Drug Administration (FDA), Office of Women's Health is announcing the following meeting: Workshop on Sex Differences and the FDA Critical Path Initiative. The topic to be discussed is the potential impact of sex and gender differences in the areas of biomarker development, pharmacogenetics, and bioinformatics. Presentations on the FDA Critical Path Initiative and relevant research areas will be given by key FDA staff and other experts. A working lunch will be provided and small group breakout sessions will be held to draft a list of priorities for each topic area. FDA senior staff members and other experts will facilitate these discussions.

Date and Time: The meeting will be held on November 13, 2006, from 9 a.m. to 5 p.m.

Location: The meeting will be held at the Mayflower Hotel, East Room, 1127 Connecticut Ave. NW, Washington, DC 20036.

Contact: Deborah Kallgren, Office of Women's Health (HF-8), Food and Drug Administration, 5600 Fishers Lane, Rockville, MD 20857, 301-827-0350, FAX: 301-827-0926, e-mail: deborah.kallgren@fda.hhs.gov.

Registration: There is no fee, but preregistration is required. Seating is limited to 75 participants. Send registration information (including name, title, firm name, address, telephone, and fax number) to the contact person by November 6, 2006.

If you need special accommodations due to a disability, please contact Deborah Kallgren at least 7 days in advance (November 6, 2006).

Dated: October 2, 2006.
Jeffrey Shuren,
Assistant Commissioner for Policy.

[FR Doc. E6-16605 Filed 10-6-06; 8:45 am]

BILLING CODE 4160-01-S